Title 3—

The President

Proclamation 8415 of September 14, 2009

National Employer Support of the Guard and Reserve Week, 2009

By the President of the United States of America

A Proclamation

Citizens willing to serve in uniform when duty calls have helped protect our freedom and security since our Nation's founding more than 200 years ago. During times of peace, they have worked in our cities and towns, contributing their skill and energy to local businesses, schools, and civic organizations. During times of strife at home and abroad, they have served with distinction, protecting the United States from domestic and foreign threats. In commemorating National Employer Support of the Guard and Reserve Week, we honor the courageous members of our Guard and Reserve and their employers, whose support strengthens our Armed Forces and helps protect our country.

Our Guard and Reserve personnel are training arduously and serving valiantly as they are called upon to meet new challenges. Active here at home and in overseas operations, they are a key component in our national defense. Members of our Guard and Reserve serve with honor at home and in Afghanistan, Iraq, and other regions around the world, and they are willing to make the ultimate sacrifice for our country. They help respond to natural disasters and humanitarian emergencies, and protect against threats to our national security. Our Nation owes a debt of gratitude to these brave men and women who balance the demands of civilian and military life.

Through their continued support and flexibility, employers across the country bolster the efforts of members of the Guard and Reserve. Employers often make financial and organizational sacrifices in the interest of our national security. The commitment of these employers helps ensure that our troops are mission-ready and provides a measure of assurance, comfort, and pride to those who leave their jobs and families behind as they are deployed. The United States is grateful to the many businesses and organizations that enable Guard and Reserve personnel to remain engaged in both their professional and their military careers.

The United States has always benefited from the contributions of those willing to depart the comforts of home to answer the call of duty. Today, the American people celebrate the service and sacrifice of members of our Guard and Reserve as we pay special tribute to their employers for their admirable dedication and support.

NOW, THEREFORE, I, BARACK OBAMA, President of the United States of America, by virtue of the authority vested in me by the Constitution and the laws of the United States of America, do hereby proclaim September 13 through September 19, 2009, as National Employer Support of the Guard and Reserve Week. I encourage all Americans to join me in expressing our heartfelt thanks to the members of the National Guard and Reserve and their civilian employers. I also call on State and local officials, private organizations, and all military commanders, to observe this week with appropriate ceremonies and activities.

IN WITNESS WHEREOF, I have hereunto set my hand this fourteenth day of September, in the year of our Lord two thousand nine, and of the Independence of the United States of America the two hundred and thirty-fourth.

[FR Doc. E9-22584

Filed 9-16-09; 11:15 am]

Billing code 3195-W9-P